DEPARTMENT OF ENERGY

[Docket Nos. EA-271]

Application To Export Electric Energy; Wolverine Power Supply Cooperative, Inc.

AGENCY: Office of Fossil Energy, DOE.

ACTION: Notice of application.

SUMMARY: Wolverine Power Supply Cooperative, Inc. (Wolverine) has applied to export electric energy from the United States to Canada for a period of five years, pursuant to section 202(e) of the Federal Power Act.

DATES: Comments, protests or requests to intervene must be submitted on or before August 26, 2002.

ADDRESSES: Comments, protests or requests to intervene should be addressed as follows: Office of Coal & Power Import/Export (FE-27), Office of Fossil Energy, U.S. Department of Energy, 1000 Independence Avenue, SW, Washington, DC 20585-0350 (FAX 202-287-5736).

FOR FURTHER INFORMATION CONTACT: Xavier Puslowski (Program Office) 202-586-4708 or Michael Skinker (Program Attorney) 202-586-2793.

SUPPLEMENTARY INFORMATION: Exports of electricity from the United States to a foreign country are regulated and require authorization under section 202(e) of the Federal Power Act (FPA) (16 U.S.C. 824a(e)).

On June 28, 2002, Wolverine applied to the Department of Energy (DOE) for authority to export electric energy from the United States to Canada. Wolverine is a Michigan generation and transmission electric cooperative providing wholesale service to its five member cooperatives: Cherryland Electric Cooperative, Great Lakes Energy Cooperative, Presque Isle Electric & Gas Co-op, Homeworks Tri-County Electric Cooperative and Wolverine Power Marketing Cooperative, Inc. These five member cooperatives resell Wolverine power at retail to end-use customers located within northern and western portions of Michigan's lower peninsula. Electric energy delivered by Wolverine to Canada will originate either inside or outside of Wolverine's system depending upon existing market conditions at the time of each sale. Any electric power Wolverine would export to Canada would be in excess of any native load commitments and firm power contracts it has with its member system cooperatives.

In FE Docket No. EA-271, Wolverine proposes to export electric energy to Canada and to arrange for the delivery of those exports to Canada over the international transmission facilities owned by Basin Electric Power Cooperative, Bonneville Power Administration, Citizens Utilities, Eastern Maine Electric Cooperative, International Transmission Co., Joint Owners of the Highgate Project, Long Sault, Inc., Maine Electric Power Company, Maine Public Service Company, Minnesota Power, Inc., Minnkota Power Cooperative, Inc., New York Power Authority, Niagara Mohawk Power Corp., Northern States Power Company and Vermont Electric Transmission Company.

The construction of each of the international transmission facilities to be utilized by Wolverine has previously been authorized by a Presidential permit issued pursuant to Executive Order 10485, as amended.

Procedural Matters

Any person desiring to become a party to this proceeding or to be heard by filing comments or protests to this application should file a petition to intervene, comment or protest at the address provided above in accordance with §§ 385.211 or 385.214 of the FERC's Rules of Practice and Procedures (18 CFR 385.211, 385.214). Fifteen copies of each petition and protest should be filed with the DOE on or before the date listed above.

Comments on the Wolverine application to export electric energy to Canada should be clearly marked with Docket EA-271. Additional copies are to be filed directly with Stephen J. Videto, General Counsel, Wolverine Power Supply Cooperative, Inc., P.O. Box 229, 10125 W. Watergate Road, Cadillac, MI 49601.

A final decision will be made on this application after the environmental impact has been evaluated pursuant to the National Environmental Policy Act of 1969, and a determination is made by the DOE that the proposed action will not adversely impact on the reliability of the U.S. electric power supply system.

Copies of this application will be made available, upon request, for public inspection and copying at the address provided above or by accessing the Fossil Energy home page at http://www.fe.doe.gov. Upon reaching the Fossil Energy Home page, select “Regulatory” Programs,” then “Electricity Regulation,” and then “Pending Proceedings” from the options menus.

Issued in Washington, DC, on July 22, 2002.
Ellen Russell,
Acting Deputy Director, Electric Power Regulation, Office of Coal & Power Import/Export, Office of Coal & Power Systems, Office of Fossil Energy.

[FR Doc. 02-18963 Filed 7-25-02; 8:45 am]

BILLING CODE 6450-01-P